GENERAL SERVICES ADMINISTRATION

Office of Governmentwide Policy

Cancellation of an Optional Form by the Department of Defense

AGENCY: General Services Administration.

ACTION: Notice.

SUMMARY: The Department of Defense is cancelling the following Optional Form because of low demand in the Federal Supply Service: OF 83, Not Mission Capable Supple Label (Small).

FOR FURTHER INFORMATION CONTACT: Ms. Glynda Hughes, Department of Defense, 703 604-4578.

DATES: Effective March 17, 2004.

Dated: March 9, 2004.
Barbara M. Williams,
Deputy Standard and Optional Forms Management Officer, General Services Administration.

[FR Doc. 04-5985 Filed 3-16-04; 8:45 am]

BILLING CODE 6820-34-M